DEPARTMENT OF THE INTERIOR

Bureau of Land Management

[ID-070-1020-XQ]

Resource Advisory Council Meeting Locations and Times

AGENCY: Bureau of Land Management, Interior.

SUMMARY: In accordance with the Federal Land Policy and Management Act and the Federal Advisory Committee Act of 1972 (FACA), 5 U.S.C., the Department of the Interior, Bureau of Land Management (BLM) council meeting of the Upper Snake River District Resource Advisory Council (RAC) will be held as indicated below. The agenda for this two-day meeting will include a field trip for members on the first day to recreation sites along the South Fork of the Snake River, and discussions on Standards and Guides Monitoring on the second day. The RAC will also hear a presentation from the staff of the Interior Columbia Basin Ecosystem Management Plan (ICBEMP) project. Other agenda items may be added between publication of this notice and the meeting. All meetings are open to the public. The public may present written or oral comments to the council. Each formal council meeting will have a time allocated for hearing public comments. The public comment period for the council meetings is listed below. Depending on the number of persons wishing to comment, and the time available, the time for individual oral comments may be limited. Individuals who plan to attend and need further information about the meetings, or need special assistance such as sign language interpretation or other reasonable accommodations should contact David Howell at the Upper Snake River District Office, 1405 Hollipark Dr., Idaho Falls, ID 83401, or telephone (208) 524-7559.

DATES AND TIMES: The next meeting will be held May 4-5, 2000 at the BLM's Idaho Falls Field Office, 1405 Hollipark Drive in Idaho Falls, Idaho. The Field Trip to the recreational sites will begin at 1 p.m. on May 4. The RAC meeting will start at 8:30 a.m. on May 5, with public comments scheduled from 8:40-9:10 a.m.

SUPPLEMENTARY INFORMATION: The purpose of the Resource Advisory Council is to advise the Secretary of the Interior, through the BLM, on a variety of planning and management issues associated with the management of the of the public lands.

FOR FURTHER INFORMATION CONTACT: David Howell, Upper Snake River District, 1405 Hollipark Dr., Idaho Falls, ID 83401, (208) 524-7559.

Dated: March 30, 2000.
Joe Kraayenbrink,
Idaho Falls Field Manager.

[FR Doc. 00-8727 Filed 4-7-00; 8:45 am]

BILLING CODE 4310-GG-P